NATIONAL ARCHIVES AND RECORDS ADMINISTRATION

Records Schedules; Availability and Request for Comments

AGENCY: National Archives and Records Administration (NARA).

ACTION: Notice of availability of proposed records schedules; request for comments.

SUMMARY: The National Archives and Records Administration (NARA) publishes notice at least once monthly of certain Federal agency requests for records disposition authority (records schedules). Once approved by NARA, records schedules provide mandatory instructions on what happens to records when no longer needed for current Government business. They authorize the preservation of records of continuing value in the National Archives of the United States and the destruction, after a specified period, of records lacking administrative, legal, research, or other value. Notice is published for records schedules in which agencies propose to destroy records not previously authorized for disposal or reduce the retention period of records already authorized for disposal. NARA invites public comments on such records schedules, as required by 44 U.S.C. 3303a(a).

DATES: Requests for copies must be received in writing on or before November 2, 2000. Once the appraisal of the records is completed, NARA will send a copy of the schedule. NARA staff usually prepare appraisal memorandums that contain additional information concerning the records covered by a proposed schedule. These, too, may be requested and will be provided once the appraisal is completed. Requesters will be given 30 days to submit comments.

ADDRESSES: To request a copy of any records schedule identified in this notice, write to the Life Cycle Management Division (NWML), National Archives and Records Administration (NARA), 8601 Adelphi Road, College Park, MD 20740-6001. Requests also may be transmitted by FAX to 301-713-6852 or by e-mail to records.mgt@arch2.nara.gov. Requesters must cite the control number, which appears in parentheses after the name of the agency which submitted the schedule, and must provide a mailing address. Those who desire appraisal reports should so indicate in their request.

FOR FURTHER INFORMATION CONTACT: Marie Allen, Director, Life Cycle Management Division (NWML), National Archives and Records Administration, 8601 Adelphi Road, College Park, MD 20740-6001. Telephone: (301)713-7110. E-mail: records.mgt@arch2.nara.gov.

SUPPLEMENTARY INFORMATION: Each year Federal agencies create billions of records on paper, film, magnetic tape, and other media. To control this accumulation, agency records managers prepare schedules proposing retention periods for records and submit these schedules for NARA's approval, using the Standard Form (SF) 115, Request for Records Disposition Authority. These schedules provide for the timely transfer into the National Archives of historically valuable records and authorize the disposal of all other records after the agency no longer needs them to conduct its business. Some schedules are comprehensive and cover all the records of an agency or one of its major subdivisions. Most schedules, however, cover records of only one office or program or a few series of records.

Many of these update previously approved schedules, and some include records proposed as permanent.

No Federal records are authorized for destruction without the approval of the Archivist of the United States. This approval is granted only after a thorough consideration of their administrative use by the agency of origin, the rights of the Government and of private persons directly affected by the Government's activities, and whether or not they have historical or other value.

Besides identifying the Federal agencies and any subdivisions requesting disposition authority, this public notice lists the organizational unit(s) accumulating the records or indicates agency-wide applicability in the case of schedules that cover records that may be accumulated throughout an agency. This notice provides the control number assigned to each schedule, the total number of schedule items, and the number of temporary items (the records proposed for destruction). It also includes a brief description of the temporary records. The records schedule itself contains a full description of the records at the file unit level as well as their disposition. If NARA staff has prepared an appraisal memorandum for the schedule, it too includes information about the records. Further information about the disposition process is available on request.

Schedules Pending

1. Department of the Air Force, Agency-wide (N1-AFU-00-8, 2 items, 2 temporary items). Project case files relating to asbestos abatement activities. Records relate to such matters as asbestos location and type within facilities, abatement personnel, and potential health effects. Also included are electronic copies of documents created using electronic mail and word processing.

2. Department of the Air Force, United States Air Force Europe (N1-AFU-00-9, 2 items, 2 temporary items). Ration control accountability files, which include records relating to the management of ration control programs, ration cards, coupons, and control registers. Also included are electronic copies of documents created using electronic mail and word processing.

3. Department of the Army, Agency-wide (N1-AU-00-23, 2 items, 2 temporary items). Electronic copies of documents created using electronic mail and word processing that are associated with nonappropriated fund official personnel folders. This schedule also increases the retention period for recordkeeping copies of these files, which were previously approved for disposal.

4. Department of the Army, U.S. Army Europe (N1-AU-00-26, 1 item, 1 temporary item). Master file of the Automated Abbreviated Ground Reporting System, an electronic information system used to capture information about ground accidents involving Army personnel. This system includes personal identifying data, injury type, time, date, and location of accident, and the Army operation and equipment involved.

5. Department of Commerce, National Telecommunications and Information Administration (N1-417-00-1, 16 items, 11 temporary items). Records of the Public Interest Obligations of Digital Television Broadcasters Advisory Committee. Included are such records as audio recordings of committee meetings, Federal Register notices, copy editor correspondence, meeting arrangement files, requests for information, video recordings submitted by speakers and the public, graphics pertaining to the Committee's final report, electronic copies of documents created using electronic mail and word processing, and electronic copies of documents located on the Committee's web site. Records proposed for permanent retention include recordkeeping copies of transcripts of the Committee's meetings, meeting files, the Committee's final report, and Committee member and charter files.

6. Department of Defense, Office of the Secretary of Defense (N1-330-00-3, 2 items, 1 temporary item). Electronic copies of business policy files created by the Business Policy Directorate using electronic mail and word processing. Included are electronic copies of records relating to accounting and finance systems, reports to Congress on financial matters, implementation of laws and regulations on financial management, and improvements in financial management processes. Reordkeeping copies of these files are proposed for permanent retention.

7. Department of Defense, Office of the Secretary of Defense (N1-330-00-4, 4 items, 4 temporary items). Records relating to the Combined Federal Campaign, savings bond campaigns, and blood donor programs. Included are such records as plans, statistical reports, directives, and minutes of meetings. Also included are electronic copies of documents created using electronic mail and word processing.

8. Department of Health and Human Services, Office of Inspector General (N1-468-00-1, 33 items, 30 temporary items). Investigative, audit, litigation, administrative hearing, and legal advice case files accumulated by the Office of Inspector General, including its Office of Counsel. Also included are such records as draft legislation files, congressional testimony, regulations, correspondence with Members of Congress, schedules of daily activities, and electronic copies of documents created using electronic mail and word processing. Proposed for permanent retention are recordkeeping copies of legal opinion precedent files, speeches, and records that relate to the organizational structure and policies of the office.

9. Department of Justice, Bureau of Prisons (N1-129-99-15, 12 items, 9 temporary items). Files of the Management and Specialty Training Center consisting of curriculum packages, job task analyses and validations, student training records, reference files, minutes of internal committees, and electronic copies of documents created using electronic mail and word processing. Recordkeeping copies of supplements to directives and videotapes and related production files are proposed for permanent retention. This schedule was published in the Federal Register on March 15, 1999. It is being published again because curriculum packages and job task analyses and validations, which were previously proposed for permanent retention, are now proposed for disposal.

10. Department of Justice, United States Marshals Service (N1-527-00-2, 4 items, 4 temporary items). Records relating to threats made against Federal judges and other officials that do not warrant investigation, including electronic copies of documents created using electronic mail and word processing. Selected records relating to threats that result in investigations are proposed for permanent retention in a separate records disposition schedule that is pending.

11. Department of the Navy, Agency-wide (N1-NU-00-2, 5 items, 5 temporary items). Ship and ship system safety records accumulated below the Naval Sea Systems Command level that pertain to submarine safety. This schedule increases the retention period for these records, which were previously approved for disposal. Also included are electronic copies of documents created using electronic mail and word processing that relate to ship and ship system safety. Recordkeeping copies of safety records accumulated at the Naval Sea Systems Command level were previously approved for permanent retention.

12. Department of the Treasury, Bureau of Alcohol, Tobacco and Firearms (N1-436-00-2, 6 items, 6 temporary items). Records relating to training. Included are course instructions, texts, lesson plans, training requests, course evaluations, schedules, and rosters. Also included are electronic copies of documents created using electronic mail and word processing.

13. Advisory Commission on Electronic Commerce, Agency-wide (N1-220-00-4, 7 items, 7 temporary items). Records relating to the Commission's web site. Included are periodic printouts of web pages, change control records including electronic mail and word processing documents, migration records, feedback and statistical reports, electronic code, and web design records.

14. Federal Labor Relations Authority, Member Offices (N1-480-00-1, 2 items, 2 temporary items). Working case files for cases dealing with arbitration, negotiability, representation, and unfair labor practices that are assigned for merits review by Member Offices. Included are such documents as copies of pleadings filed by parties in a case, copies of documents created by other Federal Labor Relations Authority offices, routing documents, internal memorandums, and drafts of decisions. The recordkeeping copies of case files dealing with these matters that are accumulated by the Office of Case Control have previously been scheduled for disposition, with significant files selected for permanent retention on a case-by-case basis by the agency.

15. General Accounting Office, Office of General Counsel (N1-411-00-1, 5 items, 1 temporary item). Electronic copies of documents created using electronic mail and word processing that are associated with records relating to the review of presidential proposals to withhold funds from obligation or expenditure in accordance with the Impoundment Act of 1974. Proposed for permanent retention are recordkeeping copies of impoundment case files and a related card index, statistical reports and analyses, and congressional testimony files.

Dated: September 11, 2000.
Michael J. Kurtz,
Assistant Archivist for Record Services—Washington, DC.

[FR Doc. 00-23819 Filed 9-15-00; 8:45 am]

BILLING CODE 7515-01-P